DEPARTMENT OF HEALTH AND HUMAN SERVICES

National Institutes of Health

Office of the Secretary; Notice of Meeting

Pursuant to section 10(a) of the Federal Advisory Committee Act, as amended, notice is hereby given of meetings of the Task Force on Research Specific to Pregnant Women and Lactating Women.

The meetings will be open to the public, with attendance limited to space available. Individuals who plan to attend and need special assistance, such as sign language interpretation or other reasonable accommodations, should notify the Contact Person listed below in advance of the meeting.

Name of Committee: Task Force on Research Specific to Pregnant Women and Lactating Women (PRGLAC).

Date: May 22, 2019.

Time: May 22, 2019, 11:00 a.m. to 12:00 p.m.

Agenda: I. Opening Remarks—Dr. Diana Bianchi, Chair, PRGLAC Task Force

II. Introduction of new Task Force members

III. Charge to the Task Force for Phase II

IV. Next Steps

V. Q & A (via WebEx Q&A panel)

VI. Adjourn

Place: 6710B Rockledge Drive, Bethesda, MD 20817.

Contact Person: Ms. Lisa Kaeser, Executive Secretary, Eunice Kennedy Shriver National Institute of Child Health and Human Development, 31 Center Drive, Room 2A03, MSC 2425, Bethesda, MD 20892, (301) 496-0536, kaeserl@mail.nih.gov.

Individuals will be able to view the meeting via NIH Videocast. Select the following link for Videocast access instructions: https://nih.webex.com/nih/onstage/g.php?MTID=e032e8468fbd649c8edcdb8feea25403b.

Event Password: NICHD

This meeting is open to the public, but registration in advance is required to attend. The above link is the same one used to register and to attend the meeting. Once registered, participants will receive further instructions for calling into the webinar.

Details and additional information about these meetings can be found at the NICHD website for the Task Force on Research Specific to Pregnant Women and Lactating Women (PRGLAC) https://www.nichd.nih.gov/about/advisory/PRGLAC/Pages/index.aspx.

Dated: April 23, 2019.
Ronald J. Livingston, Jr.,
Program Analyst, Office of Federal Advisory Committee Policy.

[FR Doc. 2019-08618 Filed 4-26-19; 8:45 am]

BILLING CODE 4140-01-P